DEPARTMENT OF DEFENSE

Department of the Army, Corps of Engineers

Availability of the Final Environmental Impact Statement for the Northern Integrated Supply Project, Larimer and Weld Counties, Colorado

AGENCY: Department of the Army, U.S. Army Corps of Engineers, DoD.

ACTION: Notice; extension of public comment deadline.

SUMMARY: The comment period for the Availability of the Final Environmental Impact Statement for the Northern Integrated Supply Project, Larimer and Weld Counties, Colorado published in the Federal Register on Friday, July 20, 2018, and required comments be postmarked on or before September 4, 2018. The Corps is extending the deadline for submitting public comments to October 4, 2018.

FOR FURTHER INFORMATION CONTACT: John Urbanic, NISP EIS Project Manager, telephone 303-979-4120, fax at 303-979-0602, or email at nisp.eis@usace.army.mil.

SUPPLEMENTARY INFORMATION: None.

Brenda S. Bowen,
Army Federal Register Liaison Officer.

[FR Doc. 2018-16861 Filed 8-6-18; 8:45 am]

BILLING CODE 3720-58-P